DEPARTMENT OF HEALTH AND HUMAN SERVICES

Centers for Disease Control and Prevention

Advisory Committee on Childhood Lead Poisoning Prevention (ACCLPP), National Center for Environmental Health (NCEH)

In accordance with section 10(a)(2) of the Federal Advisory Committee Act (Pub. L. 92-463), the Centers for Disease Control and Prevention (CDC) announce the following meeting of the aforementioned committee:

Times and Dates:

8:30 a.m.-5 p.m., September 18, 2007.

8:30 a.m.-12:30 p.m., September 19, 2007.

Place: Radisson Plaza Hotel Minneapolis, 35 South 7th Street, Minneapolis, MN 55402, Telephone: (612) 339-4900.

Open to the public, limited only by the space available. The meeting room accommodates approximately 75 people.

Purpose: The Committee provides advice and guidance to the Secretary; the Assistant Secretary for Health; and the Director, CDC, regarding new scientific knowledge and technological developments and their practical implications for childhood lead poisoning prevention efforts. The Committee also reviews and reports regularly on childhood lead poisoning prevention practices and recommends improvements in national childhood lead poisoning prevention efforts.

Matters To Be Discussed: The meeting will include discussion on the potential approaches to strengthen existing strategies to achieve the Healthy People 2010 goal of eliminating Elevated Blood Lead Levels as a Public Health Problem in the United States by 2010, the development of a prevention based research agenda, and the study designs related to adverse effects from Blood Lead Levels (BLLs) < 10 μg/dl; and updates on the school performance and concurrent BLLs.

Agenda items are subject to change as priorities dictate.

Opportunities will be provided during the meeting for oral comments. Depending on the time available and the number of requests, it may be necessary to limit the time of each presenter.

Contact Person for More Information: Claudine Johnson, Clerk, Lead Poisoning Prevention Branch, Division of Environmental Emergency Health Services, NCEH, CDC, 4770 Buford Hwy, NE., Mailstop F-40, Atlanta, GA 30341, Telephone (770) 488-3629, Fax (770) 488-3635.

The Director, Management Analysis and Services Office has been delegated the authority to sign Federal Register notices pertaining to announcements of meetings and other committee management activities, for both CDC and the Agency for Toxic Substances and Disease Registry.

Dated: July 6, 2007.
Elaine L. Baker,
Acting Director, Management Analysis and Services Office, Centers for Disease Control and Prevention.

[FR Doc. E7-13596 Filed 7-12-07; 8:45 am]

BILLING CODE 4163-18-P